DEPARTMENT OF TRANSPORTATION

Federal Aviation Administration

14 CFR Part 39

[Docket No. FAA-2005-21968; Directorate Identifier 2005-NM-077-AD; Amendment 39-14798; AD 2006-22-01]

RIN 2120-AA64

Airworthiness Directives; Boeing Model 757-200, -200CB, and -300 Series Airplanes

AGENCY: Federal Aviation Administration (FAA), Department of Transportation (DOT).

ACTION: Final rule.

SUMMARY: The FAA is adopting a new airworthiness directive (AD) for certain Boeing Model 757-200, -200CB, and -300 series airplanes. This AD requires repetitive detailed inspections for proper functioning of the girt bar leaf springs for the escape slides to ensure the leaf springs retain the sliders and the required 0.37-inch minimum engagement between the sliders and floor fittings is achieved at passenger doors 1, 2, and 4, and corrective actions if necessary. This AD results from a report that the escape slides failed to deploy correctly during an operator's tests of the escape slides. We are issuing this AD to prevent escape slides from disengaging from the airplane during deployment or in use, which could result in injuries to passengers or flightcrew.

DATES: This AD becomes effective December 1, 2006.

The Director of the Federal Register approved the incorporation by reference of certain publications listed in the AD as of December 1, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Patrick Gillespie, Aerospace Engineer, Cabin Safety and Environmental Systems Branch, ANM-150S, FAA, Seattle Aircraft Certification Office, 1601 Lind Avenue, SW., Renton, Washington 98057-3356; telephone (425) 917-6429; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Boeing Model 757-200, -200CB, and -300 series airplanes. That supplemental NPRM was published in the Federal Register on May 19, 2006 (71 FR 29092). That supplemental NPRM proposed to require repetitive detailed inspections for proper functioning of the girt bar leaf springs for the escape slides to ensure the leaf springs retain the sliders and the required 0.37-inch minimum engagement between the sliders and floor fittings is achieved at passenger doors 1, 2, and 4, and corrective actions if necessary.

Comments

We provided the public the opportunity to participate in the development of this AD. We have considered the comments received.

Support for the Supplemental NPRM

Boeing supports the contents of the supplemental NPRM.

Request To Clarify Prohibition for Bending Girt Bar

One commenter, a private citizen, states that it is unclear what to do if the subject girt bar retention leaf springs are bent before the effective date of the AD. The commenter states that it is virtually impossible to determine if such springs were bent before. Therefore, the commenter requests that we clarify paragraphs (f) and (g) of the supplemental NPRM if the intent is to prohibit bending of the spring in the future. The commenter suggests that we revise the final rule to add the following words to paragraphs (f) and (g): “* * * this AD does not allow that procedure from the effective date of this AD.”

We disagree that it is necessary to change paragraphs (f) and (g) of the final rule to add the suggested wording. Both paragraphs prohibit bending the girt bar during the actions accomplished in accordance with this AD, which are required within 24 months after the effective date of this AD. Therefore, the paragraphs already prohibit bending the girt bars as of the effective date of the actions in the AD. We have not changed the AD in this regard.

Explanation of Change to Paragraph (g)

Paragraph (g) of the NPRM referred to the paragraph titled “Part 2—‘Inspection’ ” in Boeing Special Attention Service Bulletin 757-52-0085, dated March 24, 2005; and Boeing Special Attention Service Bulletin 757-52-0086, dated March 24, 2005. However that paragraph title is not included in Boeing Special Attention Service Bulletin 757-52-0085. Therefore, we have changed paragraph (g) of the AD to remove the reference to the paragraph titled “Part 2—‘Inspection’ ” in the service bulletins. The requirement to do an “approved equivalent procedure” in accordance with the applicable chapter/section of the Boeing 757 AMM or Boeing 757 CMM specified in the applicable service bulletin remains.

Conclusion

We have carefully reviewed the available data, including the comment received, and determined that air safety and the public interest require adopting the AD with the change described previously. We have determined that this change will neither increase the economic burden on any operator nor increase the scope of the AD.

Costs of Compliance

There are about 944 airplanes of the affected design in the worldwide fleet. This AD affects about 632 airplanes of U.S. registry. The inspection takes about 2 work hours per airplane, at an average labor rate of $80 per work hour. Based on these figures, the estimated cost of the AD for U.S. operators is $101,120, or $160 per airplane, per inspection cycle.

Interim Action

We consider this AD interim action. If final action is later identified, we may consider further rulemaking then.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-22-01 Boeing: Amendment 39-14798. Docket No. FAA-2005-21968; Directorate Identifier 2005-NM-077-AD.

Effective Date

(a) This AD becomes effective December 1, 2006.

Affected ADs

(b) None.

Applicability

(c) This AD applies to Boeing Model 757-200 and -200CB series airplanes, certificated in any category, as identified in Boeing Special Attention Service Bulletin 757-52-0085, dated March 24, 2005; and Boeing Model 757-300 series airplanes, certificated in any category, as identified in Boeing Special Attention Service Bulletin 757-52-0086, dated March 24, 2005.

Unsafe Condition

(d) This AD results from a report that the escape slides failed to deploy correctly during an operator's tests of the escape slides. We are issuing this AD to prevent escape slides from disengaging from the airplane during deployment or in use, which could result in injuries to passengers or flightcrew.

Compliance

(e) You are responsible for having the actions required by this AD performed within the compliance times specified, unless the actions have already been done.

Detailed Inspection and Corrective Actions

(f) Within 24 months after the effective date of this AD: Do a detailed inspection for inadequate spring retention force and inadequate girt bar slider dimensions of the girt bar leaf springs for the escape slides at passenger doors 1, 2, and 4; and do any applicable corrective actions before further flight. Do all the actions in accordance with the Accomplishment Instructions of the applicable service bulletin in paragraph (f)(1) or (f)(2) of this AD, except as provided by paragraph (g) of this AD. Where the airplane maintenance manuals (AMMs) and component maintenance manuals (CMMs) referenced by the applicable service bulletin include procedures that allow bending the girt bar retention spring, this AD does not allow that procedure. Repeat the inspection thereafter at intervals not to exceed 24 months, or after each maintenance task where removal of and installation of the girt bar is necessary, whichever occurs earlier.

(1) For Boeing Model 757-200 and -200CB series airplanes: Boeing Special Attention Service Bulletin 757-52-0085, dated March 24, 2005.

(2) For Boeing Model 757-300 series airplanes: Boeing Special Attention Service Bulletin 757-52-0086, dated March 24, 2005.

Equivalent Procedures

(g) Where the applicable service bulletin specified in paragraph (f)(1) or (f)(2) of this AD specifies that actions may be accomplished in accordance with an “approved equivalent procedure”: The corrective actions must be accomplished in accordance with the applicable chapter/section of the Boeing 757 AMM or Boeing 757 CMM specified in the applicable service bulletin. Where the AMMs and CMMs include procedures that allow bending the girt bar retention spring, this AD does not allow that procedure.

Alternative Methods of Compliance (AMOCs)

(h)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(i) You must use Boeing Special Attention Service Bulletin 757-52-0085, dated March 24, 2005; or Boeing Special Attention Service Bulletin 757-52-0086, dated March 24, 2005; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_ federal_regulations/ibr_locations.html.

Issued in Renton, Washington, on October 11, 2006.
Kalene C. Yanamura,
Acting Manager, Transport Airplane Directorate, Aircraft Certification Service.

[FR Doc. E6-17656 Filed 10-26-06; 8:45 am]

BILLING CODE 4910-13-P